DEPARTMENT OF AGRICULTURE

Forest Service

Kaibab National Forest; Arizona; Uranium Exploratory Drilling Project

AGENCY: Forest Service, USDA.

ACTION: Notice; correction.

SUMMARY: This is a correction to a notice of intent to prepare an Environmental Impact Statement for the Uranium Exploratory Drilling Project, posted in the Federal Register Vol. 73, No. 198 on October 10, 2008 to give notice that preparation of the Environmental Impact Statement has been put on hold, as VANE Minerals, Inc. has withdrawn their Plan of Operation (PoO).

DATES: Further work on the analysis will be suspended until VANE Minerals, Inc. resubmits their PoO, which is expected to occur in the summer of 2011.

ADDRESSES: Questions on this notice may be mailed or hand-delivered to Kaibab National Forest, Attn: VANE Minerals Uranium Exploratory Drilling Project, 800 S. 6th St., Williams, AZ 86046. Questions may also be submitted by facsimile to (928) 635-8208 and by electronic mail (e-mail) to: comments-southwestern-kaibab@fs.fed.us. E-mail and facsimile comments must include the words “VANE Minerals Uranium Exploratory Drilling Project.”

FOR FURTHER INFORMATION CONTACT: For further information on the VANE Minerals Uranium Exploratory Drilling Project (Project), please contact Tom Mutz, Lands and Minerals Staff Officer, in writing at Williams and Tusayan Ranger Districts, 742 S. Clover Rd., Williams, AZ 86046 or by telephone at (928) 635-5600. Questions regarding the Forest Service NEPA process may be directed to Alvin Brown, Forest NEPA Coordinator, at 800 S. 6th St., Williams, AZ 86046 and telephone (928) 635-8200.

Dated: August 2, 2010.
Michael R. Williams,
Forest Supervisor, Kaibab National Forest.

[FR Doc. 2010-19545 Filed 8-9-10; 8:45 am]

BILLING CODE 3410-11-M